ENVIRONMENTAL PROTECTION AGENCY

[ER-FRL-9057-3]

Environmental Impact Statements; Notice of Availability

Responsible Agency: Office of Federal Activities, General Information 202-564-5632 or https://www.epa.gov/nepa.

Weekly receipt of Environmental Impact Statements (EIS)

Filed June 28, 2021 10 a.m. EST Through July 2, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210087, Draft, USFS, OR, Youngs Rock Rigdon, Comment Period Ends: 08/23/2021, Contact: Hilary Krieger 541-460-0754.

EIS No. 20210088, Final, USFS, CO, Berlaimont Estates Access Route, Review Period Ends: 08/09/2021, Contact: Leanne Veldhuis 970-471-1796.

EIS No. 20210089, Final, FRA, GA, Atlanta to Charlotte Rail Corridor Investment Plan, Contact: John Winkle 202-493-6067.

Under 23 U.S.C. 139(n)(2), FRA has issued a single document that consists of a final environmental impact statement and record of decision. Therefore, the 30-day wait/review period under NEPA does not apply to this action.

EIS No. 20210090, Draft, NOAA, NY, Proposed Lake Ontario National Marine Sanctuary Draft Environmental Impact Statement and Draft Management Plan, Comment Period Ends: 09/10/2021, Contact: Ellen Brody 734-276-6387.

EIS No. 20210091, Third Final Supplemental, USFS, AK, Kensington Gold Mine Plan of Operations Amendment 1, Review Period Ends: 08/23/2021, Contact: Matthew Reece 907-789-6274.

EIS No. 20210092, Draft, USAF, ID, Airspace Optimization for Readiness for Mountain Home Air Force Base, Comment Period Ends: 08/23/2021, Contact: Robin Divine 210-925-2730.

EIS No. 20210093, Final Supplement, USFS, ID, Clear Creek Integrated Restoration Project, Review Period Ends: 08/09/2021, Contact: Karen Ritland 208-963-4203.

EIS No. 20210094, Draft, FERC, PA, East 300 Upgrade Project, Comment Period Ends: 08/23/2021, Contact: Office of External Affairs 866-208-3372.

Dated: July 2, 2021.
Candi Schaedle,
Acting Director, NEPA Compliance Division, Office of Federal Activities.

[FR Doc. 2021-14618 Filed 7-8-21; 8:45 am]

BILLING CODE 6560-50-P